DEPARTMENT OF HOUSING AND URBAN DEVELOPMENT

Office of Federal Housing Enterprise Oversight

12 CFR Chapter XVII

RIN 2550-AA14

Reorganization of the Office of Federal Housing Enterprise Oversight Regulations

AGENCY: Office of Federal Housing Enterprise Oversight, HUD.

ACTION: Final rule.

SUMMARY: The Office of Federal Housing Enterprise Oversight (OFHEO) is reorganizing and renumbering its regulations. The effect is to achieve a more logical and efficient presentation of current regulations and to provide a framework for new regulations. In promulgating this reorganizational regulation, OFHEO finds that notice and public comment are not necessary. Accordingly, this final regulation is effective upon publication in the Federal Register.

EFFECTIVE DATE: This regulation is effective December 26, 2000.

FOR FURTHER INFORMATION CONTACT: David W. Roderer, Deputy General Counsel, Office of Federal Housing Enterprise Oversight, 1700 G. Street, NW., Fourth Floor, Washington, DC 20552, telephone (202) 414-6924 (not a toll free number). The telephone number for the Telecommunications Device for the Deaf is: (800) 877-8339.

SUPPLEMENTARY INFORMATION: On July 27, 2000, the Office of Federal Housing Enterprise Oversight (OFHEO) published a notice of its intention to undertake a regulatory project to ensure the adoption and implementation of various written policies and procedures for the supervision of the Federal National Mortgage Association and the Federal Home Loan Mortgage Corporation. See 65 FR 46119 (July 27, 2000). This final regulation makes technical and organizational changes to the numbering of existing regulations so they will fit logically within a new framework of the regulatory project that will incorporate additional rulemaking. Section 553(b)(3)(A) of Title 5, United States Code, provides that when regulations involve matters of agency organization, procedure or practice, the agency may publish regulations in final form and that a delayed effective date is unnecessary. 5 U.S.C. 553(d).

The final regulation adds three new subchapter headings, amends one subchapter heading, redesignates existing parts and conforms internal cross-references therein. The following derivation table shows the origin of the material that is contained in each of the newly designated subchapters and parts.

Subchapter A—OFHEO Organization and Functions

New part | Subject matter | Old part
1700 | Organization and Functions | 1700
1702 | Privacy Act of 1974 | 1720
1703 | Release of Information | 1710
1704 | Debt Collection | 1730
1705 | Equal Access to Justice Act Amendment | 1735

Subchapter B—[Reserved]

Subchapter C—Safety and Soundness

Part | Subject matter | Part
1750 | Capital | 1750

Subchapter D—Rules of Practice and Procedure

Part | Subject matter | Part
1780 | Rules of Practice and Procedure | 1780

With the renumbering of OFHEO's regulations, the section reference and internal cross-references to old part and section numbers must also be changed. As such, each new part addresses amendatory cross-references in a table reflecting the new sections, the cross-sections to be deleted, and the new cross-sections to be added.

Regulatory Impact

This is a technical rule that reorganizes OFHEO's regulations without substantive change to the rule and will not impose any substantive regulatory requirements. It is not a significant regulatory action under Executive Order 12866, 58 FR 51735 (Oct. 4, 1993), or a “rule” under the Regulatory Flexibility Act, 5 U.S.C. 601 et seq., or the Small Business Regulatory Enforcement Act, 5 U.S.C. 804(3)(C). Consequently, no regulatory impact assessment is required, no regulatory flexibility analysis is required, and no report to Congress or GAO is required.

OFHEO has determined that there is good cause for issuing this rule without notice and public comment. Section 553(b)(3) of Title 5, United States Code, provides that when regulations involve matters of agency organization, procedure or practice, the agency may publish regulations in final form. Additionally, OFHEO finds that there is good cause for having this rule take effective immediately pursuant to 5 U.S.C. 553(d).

List of Subjects in 12 CFR Parts 1700 Through 1790

Organization and functions (Government agencies).

Accordingly, for the reasons stated in the preamble, OFHEO is amending 12 CFR chapter XVII as follows:

1. Revise the heading of subchapter A to read “OFHEO Organization and Functions.”

2. Redesignate part 1720 as new part 1702.

PART 1702—IMPLEMENTATION OF THE PRIVACY ACT OF 1974

3. The authority citation for new part 1702 continues to read as follows:

Authority: 5 U.S.C. 552a; 12 U.S.C. 4513(b).

4. Amend cross-references in new part 1702 as indicated in the table below. For each new designated section indicated in the left column, remove the cross-reference indicated in the middle column and, in its place, add the new cross-reference indicated in the right column:

New Section | Remove Cross-Reference | Add Cross-Reference
1702.1(a) | part 1720 (twice) | part 1702 (twice)
1702.2 | part 1720 | part 1702
1702.4(a) | § 1720.3(b)(3) | § 1702.3(b)(3)
1702.4(a)(2) | § 1720.5 | § 1702.5
1702.4(b)(1) | § 1720.3(b)(3) | § 1702.3(b)(3)
1702.4(d) | § 1720.9 | § 1702.9
1702.7(b) | § 1720.6 | § 1702.6
1702.8(b) | § 1720.12(b) | § 1702.12(b)
1702.8(c) | § 1720.9 | § 1702.9
1702.9(a) | § 1720.3(b)(3) | § 1702.3(b)(3)
1702.9(a) | § 1720.7 | § 1702.7
1702.10(b) | § 1720.12(b) | § 1702.12(b)
1702.10(d)(2) | § 1720.12(b) | § 1702.12(b)
1702.11(a)(4) | § 1720.2 | § 1702.2
1702.11(b) | § 1720.6 | § 1702.6
1702.12(a) | § 1720.11 | § 1702.11
1702.12(a) | § 1720.11(a)(3) | § 1702.11(a)(3)
1702.13(a) | § 1720.12(a) | § 1702.12(a)
1702.13(a) | § 1720.6 | § 1702.6
1702.13(b) | § 1720.12 | § 1702.12
1702.13(b) | § 1720.11(a)(6)(v) | § 1702.11(a)(6)(v)

5. Redesignate part 1710 as new part 1703 and revise the heading to read as follows:

PART 1703—RELEASE OF INFORMATION

6. The authority citation for new part 1703 continues to read as follows:

Authority: 5 U.S.C. 301, 552; 12 U.S.C. 4513, 4522, 4639; E.O. 12600; 3 CFR, 1987 Comp., p. 235.

7. Amend cross-references in new part 1703 as indicated in the table below. For each new designated section indicated in the left column, remove the cross-reference indicated in the middle column and, in its place, add the new cross-reference indicated in the right column:

New Section | Remove Cross-Reference | Add Cross-Reference
1703.1 | § 1710.2 | § 1710.2
1703.1 | part 1710 | part 1703
1703.12(a)(1) | § 1710.9 | § 1703.9
1703.12(b) | § 1710.11(b) | § 1703.11(b)
1703.13(a) | § 1710.17(a) | § 1703.17(a)
1703.15(b)(2) | § 1710.11(b) | § 1703.11(b)
1703.15(b)(4) | § 1710.16 | § 1703.16
1703.16(b) | § 1710.13 | § 1703.13
1703.16(b) | § 1710.17(b) | § 1703.17(b)
1703.17(b) | § 1710.16 | § 1703.16
1703.18(b)(1) | § 1710.11(b)(4) | § 1703.11(b)(4)
1703.18(c) | § 1710.11(b)(4) | § 1703.11(b)(4)
1703.18(d)(2) | § 1710.11(b)(4) | § 1703.11(b)(4)
1703.18(e)(1) | § 1710.11(b)(4) | § 1703.11(b)(4)
1703.21(b) | § 1710.22(b)(1)(i) | § 1703.22(b)(1)(i)
1703.21(b) | § 1710.22(b)(1)(ii) | § 1703.22(b)(1)(ii)
1703.22(a) | § 1710.23 | § 1703.23
1703.23(a) | § 1710.24 | § 1703.24
1703.23(b) | § 1710.22 | § 1703.22
1703.23(e) | § 1710.22 | § 1703.22
1703.23(g) | § 1710.22 | § 1703.22
1703.24(a) | § 1710.23 | § 1703.23
1703.24(c)(5) | § 1710.16 | § 1703.16
1703.34(c) | § 1710.33 | § 1703.33
1703.38(a) | § 1710.22(b)(1)(i) | § 1703.22(b)(1)(i)
1703.40(b) | § 1710.33 | § 1703.33
1703.40(b) | § 1710.34 | § 1703.34
1703.40(b) | § 1710.37 | § 1703.37

8. Redesignate part 1730 as new part 1704.

PART 1704—DEBT COLLECTION

9. The authority citation for new part 1704 continues to read as follows:

Authority: 5 U.S.C. 5514; 26 U.S.C. 6402(d); 31 U.S.C. 3701-3720A.

10. Amend cross-references in new part 1704 as indicated in the table below. For each new designated section indicated in the left column, remove the cross-reference indicated in the middle column and, in its place, add the new cross-reference indicated in the right column:

New Section | Remove Cross-Reference | Add Cross-Reference
1704.1(a) | part 1730 | part 1704
1704.1(b)(1) | part 1730 | part 1704
1704.1(b)(2) | part 1730 | part 1704
1704.1(b)(3) | part 1730 | part 1704
1704.1(b)(4) | part 1730 (twice) | part 1704 (twice)
1704.2 | part 1730 (twice) | part 1704 (twice)
1704.2(c) | part 1730 | part 1704
1704.3(a) | part 1730 (twice) | part 1704 (twice)
1704.21(b)(9) | § 1730.23 | § 1704.23
1704.21(b)(12)(ii) | U.S.C. 3729-3731 | U.S.C. 3729—3731
1704.23(a)(4) | § 1730.21(b) | § 1704.21(b)
1704.29(a)(1)(ii) | § 1730.21 | § 1704.21
1704.29(a)(1)(iii) | § 1730.23(b) | § 1704.23(b)
1704.29(a)(1)(iv) | § 1730.24(b) | § 1704.24(b)
1704.29(a)(2) | §§ 1730.24—1730.26 | §§ 1704.24—1704.26
1704.29(a)(2)(iii) | § § 1730.24—1730.26 | §§ 1704.24-1704.26
1704.32(a) | when— | when—
1704.41 | § 1730.42 (three times) | § 1704.42 (three times)
1704.42 | § 1730.41 | § 1704.41
1704.51(c) | § 1730.53 | § 1704.53

11. Redesignate part 1735 as new part 1705.

PART 1705-IMPLEMENTATION OF THE EQUAL ACCESS TO JUSTICE ACT

12. The authority citation for new part 1705 continues to read as follows:

Authority: 5 U.S.C. 504(c)(1).

13. Amend cross-references in new part 1705 as indicated in the table below. For each new designated section indicated in the left column, remove the cross-reference indicated in the middle column and, in its place, add the new cross-reference indicated in the right column:

New Section | Remove Cross-Reference | Add Cross-Reference
1705.3(a) | § 1735.4(a) | § 1705.4(a)
1705.3(b)(1) | § 1735.5(b) | § 1705.5(b)
1705.5(a) | § 1735.6 | § 1705.6
1705.10(a) | § 1735.4(a) | § 1705.4(a)
1705.10(a) | § 1735.4(b) | § 1705.4(b)
1705.10(a)(3) | § 1735.12 | § 1705.12
1705.10(b) | § 1735.4(a) | § 1705.4(a)
1705.10(c) | § 1735.4(b) | § 1705.4(b)
1705.11(a) | § 1735.10(c)(4)(i) | § 1705.10(c)(4)(i)
1705.21(a) | § 1735.25 | § 1705.25
1705.22 | § 1735.25 | § 1705.25
1705.25 | § 1735.27 | § 1705.27
1705.26(a) | § 1735.25 | § 1705.25
1705.26(b) | § 1735.27 | § 1705.27
1705.26(d) | § 1735.4(a) | § 1705.4(a)
1705.26(e) | § 1735.4(b) | § 1705.4(b)
1705.27 | § 1735.26 | § 1705.26
1705.27 | § 1735.25 | § 1705.25

14. Add and reserve subchapter heading B after new part 1705 as follows:

Subchapter B—[Reserved]

15. Add subchapter heading C before part 1750 as follows:

Subchapter C—Safety and Soundness

16. Add subchapter heading D before part 1780 as follows:

Subchapter D—Rules of Practice and Procedure

Dated: December 19, 2000.
Armando Falcon, Jr.
Director, Office of Federal Housing Enterprise Oversight.

[FR Doc. 00-32779 Filed 12-22-00; 8:45 am]

BILLING CODE 4220-01-U